DEPARTMENT OF THE INTERIOR

Fish and Wildlife Service

[FWS-R4-ES-2018-N097; FXES11140400000-178-FF04EF2000]

Endangered and Threatened Wildlife; Incidental Take Permit Application, Habitat Conservation Plan for the Alabama Beach Mouse, and Environmental Assessment for Gulf Place East Parking Lot in Gulf Shores, AL

AGENCY: Fish and Wildlife Service, Interior.

ACTION: Notice of availability; request for comments and information.

SUMMARY: We, the Fish and Wildlife Service (Service), have received an application for an incidental take permit (ITP) under the Endangered Species Act. The city of Gulf Shores, Alabama, is requesting a 30-year ITP for take of the federally listed Alabama beach mouse incidental to construction. We request public comments on the permit application, which includes a proposed habitat conservation plan, and an environmental assessment prepared in accordance with the National Environmental Policy Act.

DATES: To ensure consideration, please send your written comments by September 14, 2018.

ADDRESSES: You may submit written comments and request copies of the application, including the HCP, and the EA by any one of the following methods:

U.S. mail: Alabama Ecological Services Office, Attn: Permit number TE84363C; U.S. Fish and Wildlife Service; 1208 Main Street, Daphne, AL 36526; or Atlanta Regional Office, Attn: Permit number TE84363C; U.S. Fish and Wildlife Service; 1875 Century Boulevard, Atlanta, GA 30345.

In-person: You may deliver comments during regular business hours at either of the office addresses listed above under U.S. mail. You may inspect the application, HCP, and EA by appointment during normal business hours at the same locations.

Email: You may email comments to david_dell@fws.gov. Please include your name and email address in your email message. Use “Attn: Permit number TE84363C” in the subject line of your email message. If you do not receive an email from us confirming that we received your email message, contact us directly at either telephone number in FOR FURTHER INFORMATION CONTACT.

FOR FURTHER INFORMATION CONTACT: Mr. David Dell, Regional HCP Coordinator, at the Atlanta Regional Office (see ADDRESSES) or by telephone at 404-679-7313, or Mr. William Lynn, Project Manager, at the Alabama Ecological Services Office (see ADDRESSES) or by telephone at 251-441-5868. If you use a telecommunications device for the deaf (TDD), please call the Federal Relay Service at 800-877-8339.

SUPPLEMENTARY INFORMATION: We, the Fish and Wildlife Service (Service), have received an application for an incidental take permit (ITP) under the Endangered Species Act of 1973, as amended (ESA; 16 U.S.C. 1531 et seq.). The city of Gulf Shores, Alabama (applicant), is requesting a 30-year ITP for take of the federally listed Alabama beach mouse (Peromyscus polionotus ammobates) (covered species) incidental to the construction of the Gulf Place East parking lot and amenities on a 4.14-acre property in Gulf Shores, Baldwin County, Alabama. We request public comments on the permit application, which includes a proposed habitat conservation plan (HCP), and an environmental assessment (EA) prepared in accordance with the National Environmental Policy Act (NEPA; 42 U.S.C. 4321 et seq.).

The applicant's HCP describes the activities that will be undertaken to construct the parking lot, as well as the mitigation and minimization measures proposed to address the impacts to the covered species. Pursuant to NEPA, the EA analyzes the impacts that ITP issuance would have on the covered species and the environment.

Environmental Assessment

The EA assesses the likely environmental impacts associated with the implementation of the activities described in the HCP (proposed action), including the consequences of the no-action alternative, the construction of the parking lot with no conservation measures alternative, and the proposed action. The proposed action also includes issuance of the ITP and implementation of the HCP as submitted by the applicant. The applicant anticipates that the proposed action would result in the loss of approximately 0.89 acres of occupied Alabama beach mouse habitat within the 1.40-acre footprint of the project.

Habitat Conservation Plan

The HCP covered area consists of 4.14 acres of land owned by the applicant. The HCP includes measures to avoid, minimize, and mitigate impacts to the Alabama beach mouse from construction of the parking lot. To minimize impacts to the covered species and its habitat, the applicant reduced the footprint of the parking lot. Other avoidance, minimization, and mitigation measures include, but are not limited to, trapping and relocating the species, dune enhancement and restoration, installation of sand fencing, and creation of a dune enhancement fund. The dune enhancement fund would be used to enhance habitat elsewhere within the city limits of Gulf Shores where Alabama beach mice may be found.

Public Comments

If you wish to comment on the permit application, HCP, or EA, you may submit comments by any one of the methods listed in ADDRESSES.

Public Availability of Comments

Before including your address, phone number, email address, or other personal identifying information in your comment, be aware that your entire comment—including your personal identifying information—may be made publicly available at any time. While you may request in your comment that we withhold your personal identifying information, we cannot guarantee that we will be able to do so.

Next Steps

We will evaluate the HCP, EA, and your comments to determine whether the ITP application meets the permit issuance requirements of section 10(a) of the ESA. We will also conduct an intra-Service consultation pursuant to section 7 of the ESA. If the requirements for permit issuance are met, we will issue ITP number TE84363C-0 to the applicant for incidental take of the Alabama beach mouse.

Authority

We provide this notice under section 10 of the Endangered Species Act of 1973, as amended (ESA; 16 U.S.C. 1531 et seq.) and the ESA's regulations, the National Environmental Policy Act (NEPA; 42 U.S.C. 4321 et seq.) and NEPA regulations (40 CFR 1506.6).

Mike Oetker,
Acting Regional Director.

[FR Doc. 2018-17606 Filed 8-14-18; 8:45 am]

BILLING CODE 4333-15-P